NATIONAL ARCHIVES AND RECORDS ADMINISTRATION

Agency Information Collection Activities: Submission for OMB Review; Comment Request; Correction

AGENCY: National Archives and Records Administration (NARA).

ACTION: Notice; correction.

SUMMARY: NARA published a document in the Federal Register of July 14, 2004, concerning request for comments on agency information collection activities; submission for OMB review. The document contained an incomplete address.

FOR FURTHER INFORMATION CONTACT: Tamee Fechhelm, (301) 837-1694.

Correction

In the Federal Register of July 14, 2004, in FR Doc. 04-15996, on page 42216, in the first column, correct the ADDRESSES caption to read:

ADDRESSES: Comments should be sent to: OMB Desk Officer for NARA, Office of Management and Budget, New Executive Office Building, Washington, DC 20503; fax: (202) 395-5167.

Dated: July 14, 2004.
Nancy Allard,
Federal Register Liaison Officer.

[FR Doc. 04-16387 Filed 7-19-04; 8:45 am]

BILLING CODE 7515-01-P